DEPARTMENT OF THE INTERIOR

National Park Service

[NPS-SER-CHCH-15252; PPSESEROC3, PPMPSAS1Y.YP0000]

General Management Plan Amendment/Environmental Impact Statement, Lookout Mountain Battlefield, Chickamauga and Chattanooga National Military Park, Tennessee and Georgia

AGENCY: National Park Service, Interior.

ACTION: Notice of Termination of Environmental Impact Statement.

SUMMARY: Pursuant to Section 102(2)(C) of the National Environmental Policy Act of 1969, 42 U.S.C. 4332(2)(C), the National Park Service (NPS) is terminating preparation of an environmental impact statement (EIS) for a general management plan (GMP) for Chickamauga and Chattanooga National Military Park (Park), Tennessee and Georgia. Instead, the NPS will prepare two environmental assessments (EA) to support amendments to the 1987 general management plan, one for the Lookout Mountain Battlefield unit and one for the Moccasin Bend unit.

DATES: The Lookout Mountain Battlefield GMP Amendment EA is expected to be distributed for public comment in summer 2014. The NPS will notify the public by mail, local and regional media, Web site, and other means, of public review periods and meetings associated with the EA; all announcements will include information on where and how to obtain a copy of the EA, how to comment on the EA, and the length of the public comment period. All public review and other written public information will be made available online through the NPS Planning, Environment, and Public Comment (PEPC) Web site at http://parkplanning.nps.gov/chch and the Park Web site at www.nps.gov/chch. At this point in time, the NPS does not have an anticipated release date for the Moccasin Bend GMP Amendment EA.

ADDRESSES: Chickamauga and Chattanooga National Military Park, P.O. Box 2128, Fort Oglethorpe, GA 30742.

FOR FURTHER INFORMATION CONTACT: Jim Szyjkowski at the address above, or by telephone at (423) 752-5213, extension 121.

SUPPLEMENTARY INFORMATION: A Notice of Intent to prepare an EIS for a GMP for the entire Park was published in the Federal Register on December 15, 2008 (73 FR 241, Pages 76054 and 76055). The NPS then engaged in a scoping process which included extensive public involvement and consultation with federally recognized tribes, and the initial development of a range of management alternatives. Subsequent to that process, the NPS determined the focus of the overall planning effort should address only specific areas within the Park that have the greatest need for management guidance. These areas are the Lookout Mountain National Battlefield and Moccasin Bend National Archeological District, both of which include new lands added to the Park since the last GMP was completed and could benefit from updated planning guidance particularly related to resource protection and visitor use. The NPS determined that the current planning process should continue immediately for the Lookout Mountain Battlefield unit followed by later planning at Moccasin Bend to better phase the work between the two units. The results of these efforts will amend the 1987 GMP related to management of both units. A separate planning process for the Moccasin Bend National Archeological District will be initiated at a later date.

The NPS has determined that an EA rather than an EIS is the appropriate level of documentation for the Lookout Mountain Battlefield GMP amendment. The EA for the GMP amendment for Lookout Mountain Battlefield unit will consider three alternatives and their related impacts. The no-action alternative would continue the present management direction as guided by the 1987 GMP. Two action alternatives would focus primarily on improving the visitor experience, increasing operational efficiency and providing access to the new lands. Preliminary analysis of the alternatives shows there is no potential for significant impacts to park resources and values and no concerns or issues were expressed during the public scoping process for the GMP that have the potential for highly controversial impacts. In February 2013, the NPS issued a newsletter that described these alternatives. The NPS also held an open house on February 28, 2013, to discuss the alternatives with the public. Many comments were received on the alternatives. While the NPS may modify the alternatives based on the comments received, none of the comments or any potential changes to the alternatives would result in anticipated significant impacts to natural or cultural resources in the Park or to visitor experience. For these reasons, the NPS determined the proposal would not constitute a major federal action requiring an EIS.

The responsible official for this Draft EIS is the Regional Director, NPS Southeast Region, 100 Alabama Street SW., 1924 Building, Atlanta, Georgia 30303.

Dated: April 30, 2014.
Sarah Craighead,
Acting Regional Director, Southeast Region.

[FR Doc. 2014-10793 Filed 5-9-14; 8:45 am]

BILLING CODE 4310-JD-P